DEPARTMENT OF THE INTERIOR

Bureau of Land Management

[MT-926-06-1420-BJ-TRST]

Montana: Filing of Plat of Survey

AGENCY: Bureau of Land Management, Montana State Office, Interior.

ACTION: Notice of filing of plat of survey.

SUMMARY: The Bureau of Land Management (BLM) will file the plat of survey of the lands described below in the BLM Montana State Office, Billings, Montana, (30) days from the date of publication in the Federal Register.

FOR FURTHER INFORMATION CONTACT: Harold M. Montoya, Cadastral Surveyor, Branch of Cadastral Survey, Bureau of Land Management, 5001 Southgate Drive, Billings, Montana 59101-4669, telephone (406) 896-5124 or (406) 896-5009.

SUPPLEMENTARY INFORMATION: This survey was executed at the request of the Bureau of Indian Affairs and was necessary to determine Individual and Tribal Trust lands.

The lands we surveyed are:

Principal Meridian, Montana

T. 26 N., R. 46 E.

The plat, in 1 sheet, representing the dependent resurvey of a portion of the 11th Guide Meridian East, through Township 26 North, a portion of the north boundary, a portion of the subdivisional lines, the adjusted original meanders of the former left bank of the Missouri River, downstream, through sections 1, 2, 10, and 11, a portion of the subdivision of sections 1 and 2, the subdivision of section 11, the adjusted 1986 representation of the 1908 meander of the left bank of the Missouri River, downstream, through the N1/2N1/2 of section 1, the adjusted 1986 meanders of the left bank of the Missouri River, downstream, through the E ½ of section 1 and certain division of accretion lines, and a portion of the subdivision of sections 1 and 2, and the survey of the informative traverse of the meanders of the present left bank of the Missouri River, downstream, through section 10, the meanders of the present left bank of the Missouri River, downstream, through sections 1, 2, and 11, and certain division of accretion lines in Township 26 North, Range 46 East, Principal Meridian, Montana, was accepted April 5, 2006.

We will place a copy of the plat, in 1 sheet, and related field notes we described in the open files. They will be available to the public as a matter of information.

If BLM receives a protest against this survey, as shown on this plat, in 1 sheet, prior to the date of the official filing, we will stay the filing pending our consideration of the protest.

We will not officially file this plat, in 1 sheet, until the day after we have accepted or dismissed all protests and they have become final, including decisions or appeals.

Dated: April 7, 2006.
Thomas M. Deiling,
Chief Cadastral Surveyor, Division of Resources.

[FR Doc. E6-5478 Filed 4-12-06; 8:45 am]

BILLING CODE 4310-$$-P